DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Farmrail System, Incorporated (Waiver Petition Docket Number FRA-2001-9998)

The Farmrail System owns three passenger coaches which were built in 1954-56. These coaches are not used in regular service but only on a limited seasonal basis primarily in conjunction with the Oklahoma Tourism and Recreation Department's resort and conference center located at Quartz Mountain State Park.

The cars operate on trackage owned by the Oklahoma Department of Transportation for which Farmrail acts as lessee-operator. The excursion trains operate from a station near the entrance to Quartz Mountain State Park and run northward around Lake Lugert through a sparsely populated area to Lone Wolf, Oklahoma and back. Farmrail requests relief from the requirements of Title 49 Code of Federal Regulations (CFR) 223.15 Requirements for existing passenger cars due to the infrequent use of the cars, the planned usage for excursion service, and the cost of installing compliant glazing.

The cars are former VIA Rail Canada equipment and have a double-pane combination of ¼-inch thick safety glass inside and plate glass outside. This glazing system remains the standard in Canada for passenger equipment, and the petitioner believes that the operation of these cars, as equipped, would not pose a safety hazard to passengers or employees.

FRA granted Farmrail relief from the requirements of CFR 223.15 to operate their three passenger cars, numbers FMRC 5627, 5478, and 5560, without FRA compliant glazing on a limited basis for a period of five years on May 24, 2002. Subsequent to FRA granting the subject waiver, Farmrail restated the intended area of operation for these excursion/charter trains to include the entire 354 mile System. This is a major modification to the original waiver request. The additional proposed area of operation was not included in the original safety evaluation. Therefore, Farmrail requested reopening of this docket and petitions for the expanded area of operation.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number FRA-2001-9998) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at FRA's temporary docket room located at 1120 Vermont Avenue, NW., Room 7051, Washington, DC 20005.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Grady C. Cothen, Jr.,
Deputy Associate Administrator for Safety Standards and Program Development.

[FR Doc. 03-16556 Filed 6-30-03; 8:45 am]

BILLING CODE 4910-06-P